DEPARTMENT OF JUSTICE

Notice of Lodging of Proposed First Amendment to Consent Decree Under the Clean Air Act

On June 9, 2016, the Department of Justice lodged a proposed First Amendment to a Consent Decree with the United States District Court for the Eastern District of Michigan in the lawsuit entitled United States v. Marathon Petroleum Company, LLC, et al., Civil Action No. 2:12-cv-11544.

Under the First Amendment to the Consent Decree, Marathon Petroleum Company, LP (“MPC”) will install seven flare gas recovery systems (“FGRSs”) on thirteen flares at five refineries and operate those FGRSs with minimal downtime. MPC will maintain two extra, interchangeable FGRS compressors for delivery to any of the five refineries on short notice. MPC will shut down one fence line flare at its Detroit Refinery and install nitrogen oxides controls on heaters at its Garyville, Louisiana, and Canton, Ohio refineries as mitigation projects. Marathon will receive deadline extensions for compliance with certain hydrogen sulfide limits at nine flares so that compliance lines up with major turnarounds that are necessary to finalize installation of the FGRSs. Marathon will pay a civil penalty of $326,500.

The publication of this notice opens a period for public comment on the First Amendment to the Consent Decree. Comments should be addressed to the Assistant Attorney General, Environment and Natural Resources Division, and should refer to United States v. Marathon Petroleum Company, LLC, et al., D.J. Ref. No. 90-5-2-1-09915. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the First Amendment to the Consent Decree may be examined and downloaded at this Justice Department Web site: https://www.justice.gov/enrd/consent-decrees. We will provide a paper copy of the First Amendment to the Consent Decree upon written request and payment of reproduction costs. Please mail your request and payment to: Consent Decree Library, U.S. DOJ—ENRD, P.O. Box 7611, Washington, DC 20044-7611.

Please enclose a check or money order for $8.75 (25 cents per page reproduction cost) payable to the United States Treasury.

Randall M. Stone,
Acting Assistant Section Chief, Environmental Enforcement Section, Environment and Natural Resources Division.

[FR Doc. 2016-15128 Filed 6-24-16; 8:45 am]

BILLING CODE 4410-15-P